DEPARTMENT OF HEALTH AND HUMAN SERVICES

Food and Drug Administration

[Docket No. FDA-2011-N-0151]

Withdrawal of Approval of New Animal Drug Applications; Chorionic Gonadotropin; Cuprimyxin; Diethylcarbamazine; Levamisole; Nitrofurazone; Phenylbutazone; Pyrantel; Tylosin; Tylosin and Sulfamethazine

AGENCY: Food and Drug Administration, HHS.

ACTION: Notice.

SUMMARY: The Food and Drug Administration (FDA) is withdrawing approval of 13 new animal drug applications (NADAs). In a final rule published elsewhere in this issue of the Federal Register, FDA is amending the regulations to remove portions reflecting approval of these NADAs.

DATES: Withdrawal of approval is effective April 11, 2011.

FOR FURTHER INFORMATION CONTACT: John Bartkowiak, Center for Veterinary Medicine (HFV-212), Food and Drug Administration, 7519 Standish Pl., Rockville, MD 20855, 240-276-9079, e-mail: john.bartkowiak@fda.hhs.gov.

SUPPLEMENTARY INFORMATION: The sponsors of the 13 approved NADAs listed in table 1 have requested that FDA withdraw approval because the products are no longer manufactured or marketed.

Table 1—Voluntary Requests for Withdrawal of Approval of 13 NADAs
Sponsor | NADA No. Product (Established Name of Drug) | 21 CFR Section Affected (Sponsor's Drug Labeler Code)
Roche Vitamins, Inc., 45 Waterview Blvd., Parsippany, NJ 07054-1298 | NADA 093-029 UNITOP Cream (cuprimyxin) | 524.520 (063238)
Quali-Tech Products, Inc., 318 Lake Hazeltine Dr., Chaska, MN 55318 | NADA 097-981 TYLAN 40 Sulfa-G Premix (tylosin phosphate/sulfamethazine) | 558.630 (016968)
Abraxis Pharmaceutical Products, Division of Abraxis Bioscience, 6133 River Rd., suite 500, Rosemont, IL 60018 | NADA 100-840 Chorionic Gonadotropin for Injection (chorionic gonadotropin) | 522.1081 (063323)
Furst-McNess Co., Freeport, IL 61032 | NADA 100-991 McNess Custom Premix L200 (tylosin phosphate) | 558.625 (010439)
Fort Dodge Animal Health, Division of Wyeth Holdings, a wholly owned subsidiary of Pfizer, Inc., 235 East 42d St., New York, NY 10017 | NADA 101-079 TRAMISOL-10% Pig Wormer (levamisole) | Not codified (000856)
Waterloo Mills Co., 2050 Mitchell Ave., Waterloo, IA 50704 | NADA 101-905 Mill Co-Medicator TY-10 (tylosin phosphate) | 558.625 (017139)
Waterloo Mills Co., 2050 Mitchell Ave., Waterloo, IA 50704 | NADA 101-906 Mill Co-Medicator TS-40 Premix (tylosin phosphate/sulfamethazine) | 558.630 (017139)
Pegasus Laboratories, Inc., 8809 Ely Rd., Pensacola, FL 32514 | NADA 102-824 Phenylbutazone Tablets (phenylbutazone) | 520.1720a (055246)
Wendt Laboratories, Inc., 100 Nancy Dr., Belle Plaine, MN 56011 | NADA 108-487 DEC Tabs (diethylcarbamazine citrate) | 520.622a (015579)
Wendt Laboratories, Inc., 100 Nancy Dr., Belle Plaine, MN 56011 | NADA 108-863 DEC Chewable Tabs (diethylcarbamazine citrate) | 520.622c (015579)
Furst-McNess Co., Freeport, IL 61032 | NADA 140-820 TYLAN 40 Sulfa-G Premix (tylosin phosphate/sulfamethazine) | 558.630 (010439)
Furst-McNess Co., Freeport, IL 61032 | NADA 140-825 BANMINTH Intermediate Premix (pyrantel tartrate) | 558.485 (010439)
Hess & Clark, Inc., 944 Nandino Blvd., Lexington, KY 40511 | NADA 140-910 NFZ Wound Powder (nitrofurazone) | 524.1580c (050749)

Therefore, under authority delegated to the Commissioner of Food and Drugs and redelegated to the Center for Veterinary Medicine, and in accordance with § 514.116 Notice of withdrawal of approval of application (21 CFR 514.116), notice is given that approval of NADAs 93-029, 97-981, 100-840, 100-991, 101-079, 101-905, 101-906, 102-824, 108-487, 108-863, 140-820, 140-825, and 140-910, and all supplements and amendments thereto, is hereby withdrawn, effective April 11, 2011.

In a final rule published elsewhere in this issue of the Federal Register, FDA is amending the animal drug regulations to reflect the withdrawal of approval of these NADAs.

Dated: March 25, 2011.
Leslie Kux,
Acting Assistant Commissioner for Policy.

[FR Doc. 2011-7558 Filed 3-30-11; 8:45 am]

BILLING CODE 4160-01-P